DEPARTMENT OF LABOR

Employment and Training Administration

[NAFTA-04060]

Reliable Exploration, Inc., Billings, Montana; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on August 8, 2000 in response to a petition filed on behalf of workers at Reliable Exploration, Incorporated, Billings, Montana.

In a letter dated August 10, 2000, the petitioner requested that the petition for NAFTA-TAA be withdrawn. Consequently, further investigation in this case would serve no purpose, and the investigation has been terminated.

Signed at Washington, DC, this 22nd day of August 2000.
Grant D. Beale,
Program Manager, Division of Trade Adjustment Assistance.

[FR Doc. 00-22325 Filed 8-30-00; 8:45 am]

BILLING CODE 4510-30-M